DEPARTMENT OF COMMERCE

National Oceanic and Atmospheric Administration

50 CFR Part 679

[I.D. 022500C]

RIN 0648-AM29

Fisheries of the Exclusive Economic Zone Off Alaska; Rebuilding Overfished Fisheries

AGENCY: National Marine Fisheries Service (NMFS), National Oceanic and Atmospheric Administration (NOAA), Commerce.

ACTION: Approval of fishery management plan amendment.

SUMMARY: NMFS announces the approval of Amendment 11 to the Fishery Management Plan for Bering Sea/Aleutian Islands King and Tanner Crabs (FMP). This amendment is necessary to implement a plan to rebuild the overfished stock of Bering Sea Tanner crab (Chionoecetes bairdi). This action is intended to ensure that conservation and management measures continue to be based on the best scientific information available and is intended to achieve, on a continuing basis, the optimum yield from the affected crab fisheries.

DATES: The amendment was approved on June 8, 2000.

ADDRESSES: Copies of Amendment 11 to the FMP, and the Environmental Assessment (EA) prepared for the amendment are available from the Sustainable Fisheries Division, Alaska Region, NMFS, P.O. Box 21668, Juneau, AK 99802-1668, Attn: Lori Gravel.

FOR FURTHER INFORMATION CONTACT: Gretchen Harrington, 907-586-7228 or gretchen.harrington@noaa.gov.

SUPPLEMENTARY INFORMATION: NMFS declared the Bering Sea stock of Tanner crab overfished on March 3, 1999, because the spawning stock biomass was below the minimum stock size threshold defined in Amendment 7 to the FMP (64 FR 11390). Amendment 7 specified objective and measurable criteria for identifying when all of the crab fisheries covered by the FMP are overfished or when overfishing is occurring. NMFS notified the North Pacific Fishery Management Council (Council) once NMFS determined that the stock was overfished (64 FR 15308, March 31, 1999). The Council then took action to develop a rebuilding plan within 1 year. Amendment 11, the rebuilding plan, is an FMP amendment that accomplishes the purposes outlined in the national standard guidelines to rebuild the overfished stock. Amendment 11 specifies a time period for rebuilding the stock that satisfies the Magnuson-Stevens Fishery Conservation and Management Act (Magnuson-Stevens Act).

The rebuilding plan is estimated to allow the Bering Sea Tanner crab stock to rebuild, with a 50 percent probability, in 10 years. The stock will be considered “rebuilt” when the stock reaches the maximum sustainable yield stock size level in 2 consecutive years.

The Council's rebuilding plan incorporates the harvest strategy developed by the Alaska Department of Fish and Game and adopted by the Alaska Board of Fisheries. Section 8.0 of the FMP defers to the State of Alaska the authority to develop harvest strategies, with oversight by NMFS and the Council. The rebuilding harvest strategy should result in more spawning biomass because fishery and bycatch mortality would be reduced. This higher spawning biomass is expected to produce large year-classes when environmental conditions are favorable.

An EA was prepared for Amendment 11 that describes the management background, the purpose and need for action, the management alternatives, and the environmental and the socio-economic impacts of the alternatives. A copy of the EA can be obtained from NMFS (see ADDRESSES).

A notice of availability for the proposed Amendment 11 to the FMP, which described the proposed amendment and invited comments from the public, was published in the Federal Register on March 7, 2000 (65 FR 11973). Comments were invited until May 8, 2000. NMFS received no public comments on Amendment 11.

NMFS determined that Amendment 11 to the FMP is consistent with the Magnuson-Stevens Act and other applicable laws and approved Amendment 11 on June 8, 2000. Additional information on this action is contained in the March 7, 2000, notice of availability (65 FR 11973).

No regulatory changes are necessary to implement this FMP amendment.

Dated: June 14, 2000.
Bruce C. Morehead,
Acting Director, Office of Sustainable Fisheries, National Marine Fisheries Service.

[FR Doc. 00-15510 Filed 6-19-00; 8:45 am]

BILLING CODE 3510-22-F